DEPARTMENT OF ENERGY

Request for Information To Inform the Interagency Working Group on Coal and Power Plant Communities and Economic Revitalization

AGENCY: National Energy Technology Laboratory (NETL), U.S. Department of Energy (DOE).

ACTION: Request for information (RFI).

SUMMARY: NETL, a DOE National Laboratory, provides coordination support on behalf of DOE for the Interagency Working Group on Coal and Power Plant Communities and Economic Revitalization (Interagency Working Group). NETL is requesting information to help inform the efforts of the Interagency Working Group

DATES: Interested persons are invited to submit responses by August 9, 2022.

ADDRESSES: Comments can be submitted via the internet at: https://energycommunities.gov/comment.

FOR FURTHER INFORMATION CONTACT: Dr. Briggs White, Deputy Executive Director, Energy Communities IWG, Telephone: (412) 386-7546. Questions may be addressed to briggswhite@energycommunities.gov.

SUPPLEMENTARY INFORMATION: On January 27, 2021, President Biden signed Executive Order 14008, “Tackling the Climate Crisis at Home and Abroad,” which established the Interagency Working Group on Coal and Power Plant Communities and Economic Revitalization (“Interagency Working Group”). The Interagency Working Group's mandate is to “coordinate the identification and delivery of federal resources to revitalize the economies of coal, oil and gas, and power plant communities.”

The Interagency Working Group is co-chaired by the Director of the National Economic Council (NEC) and the National Climate Advisor, and administered by the Secretary of Energy. The members of the Interagency Working Group include the Secretary of Treasury, the Secretary of the Interior, the Secretary of Agriculture, the Secretary of Commerce, the Secretary of Labor, the Secretary of Health and Human Services, the Secretary of Transportation, the Secretary of Energy, the Secretary of Education, the Administrator of the Environmental Protection Agency (EPA), the Director of the Office of Management and Budget, the Director of the Domestic Policy Council, and the federal Co-Chair of the Appalachian Regional Commission (ARC). NETL, a DOE National Laboratory, provides coordination support on behalf of DOE for the Interagency Working Group. The Director of NETL, Brian J. Anderson, Ph.D., was named as the Executive Director of the Interagency Working Group. In this role, he strategically leverages national laboratory resources and expertise to help ensure the shift to a clean energy economy creates good-paying union jobs, spurs economic revitalization, remediates environmental degradation and supports energy workers in coal, oil and gas, and power plant communities.

Executive Order 14008 tasked the Interagency Working Group with preparing an Initial Report describing “mechanisms, consistent with applicable law, to prioritize grantmaking, federal loan programs, technical assistance, financing, procurement, or other existing programs to support and revitalize the economies of coal and power plant communities.”

In the Initial Report, the Interagency Working Group identified 25 priority geographies hard-hit by declines in coal production and consumption. These geographies are also vulnerable to further economic distress as the remaining coal mines and coal power plants close.

The Interagency Working Group also identified the following six guiding principles:

• Creating good-paying jobs

• Providing federal investment to catalyze economic revitalization

• Supporting energy workers by securing benefits and providing opportunity

• Prioritizing pollution mitigation and remediation

• Adopting a government-wide approach

• Formalizing stakeholder engagement efforts

A copy of the Initial Report from the Interagency Working Group and additional information on the priority geographic areas, the guiding principles, near term goals and other Interagency Working Group activities can be found at: https://energycommunities.gov.

This RFI seeks input from the public on the challenges facing energy communities, measures to address those needs, and recommendations for the Federal Government to consider. Comments can address, but are not limited to:

Integrated Support

• Methods the Federal Government can take to reduce or eliminate barriers that prevent some energy communities from effectively accessing available funding and program support.

• Informational and technical assistance resources needed by energy communities to more easily access federal support.

• Models and examples the Interagency Working Group can consider as it works to establish a one-stop shop for energy communities to access the range of federal investments that can support community revitalization, job creation and energy workers.

Investments

• Areas where federal investments, focused on energy communities, are most important, such as job creation, economic development, education, environmental remediation, and healthcare.

• Examples of federal programs that are working well to support energy workers and community revitalization and what specifically makes those programs successful.

• Gaps where new or additional federal funding would be beneficial.

Policy

• In addition to funding and technical assistance, where can the Federal Government better support energy workers and their communities as the nation transitions its energy mix.

• Specific policy recommendations for the Interagency Working Group to consider.

Other

• Other recommendations for the Interagency Working Group consider.

Signing Authority

This document of the Department of Energy was signed on June 6, 2022, by Brian J. Anderson, Ph.D., Executive Director, Interagency Working Group on Coal and Power Plant Communities and Economic Revitalization and Director, National Energy Technology Laboratory (NETL), pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 7, 2022.
Treena V. Garrett,
Federal Register Liaison Officer, U.S. Department of Energy.

[FR Doc. 2022-12524 Filed 6-9-22; 8:45 am]

BILLING CODE 6450-01-P